DEPARTMENT OF COMMERCE

National Oceanic and Atmospheric Administration

[RTID 0648-XC801]

Pacific Bluefin Tuna United States Stakeholder Meeting; Meeting Announcement

AGENCY: National Marine Fisheries Service (NMFS), National Oceanic and Atmospheric Administration (NOAA), Commerce.

ACTION: Notice of public meeting.

SUMMARY: NMFS announces a public meeting to discuss development of a long-term harvest strategy for Pacific bluefin tuna (PBF). This meeting is intended to prepare for potential discussions at the 2023 meeting of the Joint Inter-American Tropical Tuna Commission (IATTC)—Western and Central Pacific Fisheries Commission (WCPFC) Northern Committee (NC) Working Group on a long-term harvest strategy for PBF fisheries across the Pacific Ocean. The meeting topics are described under the SUPPLEMENTARY INFORMATION section of this notice.

DATES: The virtual meeting will be held on April 19, 2023, from 1 p.m. to 4 p.m. Pacific Daylight Time (or until business is concluded). You must complete the registration process by April 12, 2023, if you plan to attend the meeting (see ADDRESSES). Members of the public may submit written comments on meeting topics or materials to Celia Barroso at celia.barroso@noaa.gov by April 12, 2023, and may also provide oral comments during the virtual meeting.

ADDRESSES: If you plan to attend the meeting, which will be held by webinar, please register at https://forms.gle/rVj5WNy4w4Kadqcq6. Instructions for attending the meeting will be emailed to meeting participants before the meeting occurs. This meeting may be audio recorded for the purposes of generating notes of the meeting. As public comments will be made publicly available, participants and public commenters are urged not to provide personally identifiable information (PII) at this meeting. Participation in the meeting, in person, by web conference, or by telephone constitutes consent to the audio recording.

FOR FURTHER INFORMATION CONTACT: Celia Barroso, NMFS West Coast Region, 562-432-1850, celia.barroso@noaa.gov.

SUPPLEMENTARY INFORMATION: The 7th Meeting of the Joint IATTC-WCPFC NC Working Group (JWG) met July 12-14, 2022, and was unable to reach consensus on management objectives for PBF and metrics to measure whether a proposed harvest strategy would meet those management objectives. Additionally, the International Scientific Committee on Tuna and Tuna-like Species in the North Pacific Ocean (ISC) recommended that, to proceed with the development of a management strategy evaluation (MSE) for PBF, the JWG consider refining the set of candidate reference points and harvest control rules recommended in 2019. This April 19 meeting is being held to prepare for anticipated discussions at the 2023 meeting of the JWG regarding scenarios for evaluation in the MSE to support development of potential harvest strategies for PBF. This is expected to include the objectives and metrics to evaluate the effectiveness of those scenarios.

PBF U.S. Stakeholder Meeting Topic

The agenda for this meeting will be distributed to participants in advance of the meeting. The meeting agenda will include a discussion on preferences for management objectives for PBF, metrics to measure how potential future harvest strategies for PBF meet those objectives, candidate reference points, and candidate harvest control rules.

Special Accommodations

Requests for sign language interpretation or other auxiliary aids should be indicated when registering for the meeting (see ADDRESSES) by April 12, 2023.

Authority: 16 U.S.C. 951 et seq.; 16 U.S.C. 1801 et seq.; and 16 U.S.C. 6901 et seq.

Dated: March 7, 2023.
Jennifer M. Wallace,
Acting Director, Office of Sustainable Fisheries, National Marine Fisheries Service.

[FR Doc. 2023-04925 Filed 3-9-23; 8:45 am]

BILLING CODE 3510-22-P